ENVIRONMENTAL PROTECTION AGENCY

[EPA-HQ-OECA-2009-0986;

FRL-9098-3]

Public Comment on Candidate National Enforcement and Compliance Assurance Priorities for Fiscal Years 2011-2013

Correction

In notice document E9-31042 beginning on page 146 in the issue of Monday, January 4, 2010 make the following corrections:

On page 147, in the first column, under the “DATES:” section, in the second line, “ January 19, 2009” should read “January 19, 2010”.

[FR Doc. C1-2009-31042 Filed 1-15-10; 8:45 am]

BILLING CODE 1505-01-D